DEPARTMENT OF HOMELAND SECURITY

Coast Guard

33 CFR Part 117

[Docket No. USCG-2011-0503]

Drawbridge Operation Regulation; New Jersey Intracoastal Waterway (NJICW), Atlantic City, NJ

AGENCY: Coast Guard, DHS.

ACTION: Notice of temporary deviation from regulations.

SUMMARY: The Commander, Fifth Coast Guard District, has issued a temporary deviation from the regulation governing the operation of the Route 30/Abescon Boulevard Bridge across Beach Thorofare, NJICW mile 67.2, at Atlantic City, NJ. The deviation allows the bridge to remain in the closed position to vessels requiring an opening to accommodate heavy volumes of vehicular traffic due to the Fourth of July fireworks show.

DATES: This deviation is effective from 9:40 p.m. on July 4, 2011 through 11:15 p.m. on July 5, 2011.

ADDRESSES: Documents mentioned in this preamble as being available in the docket are part of docket USCG-2011-0503 and are available online by going to http://www.regulations.gov, inserting USCG-2011-0503 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Coast Guard; telephone 757-398-6629, e-mail Lindsey.R.Middleton@uscg.mil. If you have questions on viewing the docket, call Renee V. Wright, Program Manager, Docket Operations, telephone 202-366-9826.

SUPPLEMENTARY INFORMATION: The Borgata Hotel Casino and Spa, on behalf of New Jersey Department of Transportation, requested a temporary deviation from the current operating regulations of the Route 30/Absecon Boulevard Bridge across Beach Thorofare, NJICW mile 67.2, at Atlantic City, NJ.

The closure has been requested to ensure the safety of the heavy volumes of vehicular traffic that would be transiting over the bridge for the July 4th fireworks show at Borgata Hotel Casino and Spa. Under this temporary deviation, the bridge will remain in the closed position to vessels requiring an opening in order to facilitate the movement of vehicular traffic intending to view the Fourth of July fireworks show.

The Fourth of July fireworks show is scheduled to take place on July 4, 2011. Therefore, under this temporary deviation, the bridge will remain in the closed position to vessels requiring an opening from 9:40 p.m. through 11:15 p.m. on July 4, 2011. However, should weather preclude this event from taking place on July 4, 2011, the event will be re-scheduled to take place on July 5, 2011. In that case, the bridge will operate as normal on July 4, 2011 and the bridge will remain in the closed position to vessels requiring an opening from 9:40 p.m. through 11:15 p.m. on July 5, 2011. At all other times during the effective period of this temporary regulation, the bridge will operate as outlined at 33 CFR 117.733(e).

The vertical clearance of this bascule bridge is 20 feet above mean high water in the closed position to vessels and unlimited in the open position. The current operating regulations are outlined at 33 CFR 117.733(e), which require that the bridge shall open on signal but only if at least four hours of notice is given; except that from April 1 through October 31, from 7 a.m. to 11 p.m., the draw need only open on the hour. The majority of the vessels that transit this bridge during this time are recreational boats. Vessels able to pass through the bridge in the closed position may do so at any time. The bridge will be able to open for emergencies. The Atlantic Ocean is an alternate route for vessels with mast heights greater than 20 feet. The Coast Guard will inform the users of the waterway through our Local and Broadcast Notices to Mariners of the closure period so that vessels can plan their transits to minimize any impact caused by the temporary deviation.

In accordance with 33 CFR 117.35(e), the drawbridge must return to its regular operating schedule immediately at the end of the designated time period. This deviation from the operating regulations is authorized under 33 CFR 117.35.

Dated: June 15, 2011.
Waverly W. Gregory, Jr.,
Bridge Program Manager, By direction of the Commander, Fifth Coast Guard District.

[FR Doc. 2011-15802 Filed 6-23-11; 8:45 am]

BILLING CODE 9110-04-P